DEPARTMENT OF STATE

[Public Notice: 11190]

Notice of Public Meeting for International Maritime Organization's (IMO) Facilitation Committee

The Department of State will conduct a public meeting at 9:00 a.m. on Wednesday, September 23, 2020, by way of teleconference. Members of the public may participate up to the capacity of the teleconference phone line, which will handle 500 participants. To access the teleconference line, participants should call (202) 475-4000 and use Participant Code: 839 604 42#. The primary purpose of the meeting is to prepare for the forty fourth session of the International Maritime Organization's (IMO) Facilitation Committee to be held virtually from September 28 to October 2, 2020.

The agenda items to be considered include:

—Decisions of other IMO bodies

—Consideration and adoption of proposed amendments to the Convention

—Review and update of the annex of the FAL Convention

—Application of single-window concept

—Review and revision of the IMO Compendium on Facilitation and Electronic Business

—Developing guidance for authentication, integrity and confidentiality of content

—For the purpose of exchange via a maritime single window

—Consideration of descriptions of Maritime Services in the context of e-navigation

—Development of amendments to the Recommendations on the establishment of National Facilitation Committees (FAL.5/Circ.2)

—Development of guidelines on creating a tool to measure domestic implementation of the FAL Convention

—Unsafe mixed migration by sea

—Consideration and analysis of reports and information on persons rescued at sea and stowaways

—Guidance to address maritime corruption

—Regulatory scoping exercise for the use of Maritime Autonomous Surface Ships (MASS)

—Technical cooperation activities related to facilitation of maritime traffic relations with other organizations

—Application of the Committee's procedures on organization and method of work

—Work program

—Any other business

Please note: The Committee may, on short notice, adjust the FAL 44 agenda to accommodate the constraints associated with the virtual meeting format. Those who plan to participate may contact the meeting coordinator, Mr. James Bull, by email at James.T.Bull@uscg.mil, by phone at (202) 372-1144, or in writing at 2703 Martin Luther King Jr. Ave. SE, Stop 7509, Washington, DC 20593-7509 prior to the meeting with any questions or requests for reasonable accommodation. Any requests for reasonable accommodation must be received by September 16, 2020. Requests received after that date will be considered, but might not be possible to fulfill.

Additional information regarding this and other IMO public meetings may be found at: https://www.dco.uscg.mil/IMO.

Jeremy M. Greenwood,
Coast Guard Liaison Officer, Office of Ocean and Polar Affairs, Department of State.

[FR Doc. 2020-19002 Filed 8-27-20; 8:45 am]

BILLING CODE 4710-09-P